DEPARTMENT OF LABOR

Employment and Training Administration

[TA-W-65,906]

Arrow Electronics, Inc., Melville, NY; Notice of Termination of Investigation

In accordance with Section 221 of the Trade Act of 1974, as amended, an investigation was initiated on May 8, 2009 in response to a worker petition filed on behalf of workers of Arrow Electronics, Inc., Melville, New York.

The petitioners have requested that the petition be withdrawn. Consequently, the investigation has been terminated.

Signed in Washington, DC, this 26th day of May 2009.
Richard Church,
Certifying Officer, Division of Trade Adjustment Assistance.

[FR Doc. E9-15214 Filed 6-26-09; 8:45 am]

BILLING CODE 4510-FN-P